DEPARTMENT OF TRANSPORTATION

Federal Aviation Administration

14 CFR Part 39

[Docket No. FAA-2017-1020; Product Identifier 2017-NM-114-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A318-111 and -112 airplanes; Model A319-111, -112, -113, -114, and -115 airplanes; Model A320-211, -212, -214, and -216 airplanes; and Model A321-111, -112, -211, -212, and -213 airplanes. This proposed AD was prompted by a review of maintenance instructions for a blend repair of the snout diameter of the main beam assembly of the forward engine mount that would create an excessive gap between the bearing mono-ball and the snout. This proposed AD would require modifying the main beam assembly of the forward engine mount. We are proposing this AD to address the unsafe condition on these products.

DATES: We must receive comments on this proposed AD by December 8, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus, Airworthiness Office-EIAS, 1 Rond Point Maurice Bellonte, 31707 Blagnac Cedex, France; telephone: +33 5 61 93 36 96; fax: +33 5 61 93 44 51; email: account.airworth-eas@airbus.com; Internet: http://www.airbus.com. You may view this service information at the FAA, Transport Standards Branch, 1601 Lind Avenue SW., Renton, WA. For information on the availability of this material at the FAA, call 425-227-1221.

Examining the AD Docket

You may examine the AD docket on the Internet at http://www.regulations.gov by searching for and locating Docket No. FAA-2017-1020; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Section, Transport Standards Branch, FAA, 1601 Lind Avenue SW., Renton, WA 98057-3356; telephone 425-227-1405; fax 425-227-1149.

SUPPLEMENTARY INFORMATION:

Comments Invited

We invite you to send any written relevant data, views, or arguments about this proposal. Send your comments to an address listed under the ADDRESSES section. Include “Docket No. FAA-2017-1020; Product Identifier 2017-NM-114-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

The European Aviation Safety Agency (EASA), which is the Technical Agent for the Member States of the European Union, has issued EASA AD 2017-0132, dated July 27, 2017 (referred to after this as the Mandatory Continuing Airworthiness Information, or “the MCAI”), to correct an unsafe condition for all Airbus Model A318-111 and -112 airplanes; Model A319-111, -112, -113, -114, and -115 airplanes; Model A320-211, -212, -214, and -216 airplanes; and Model A321-111, -112, -211, -212, and -213 airplanes. The MCAI states:

A review of maintenance instructions revealed that the Goodrich Aerospace CFM56-5B, Forward Engine Mount Component Maintenance Manual (CMM) 71-21-08, revision (rev.) 1 up to 46 (inclusive), repair 10 (Blend Repair-Beam Assembly Snout Diameter), provides instructions to blend the wear on the forward engine mount assembly, Part Number (P/N) 642-2000-9, 642-2000-13, or 642-2000-25, creating an excessive gap between the bearing mono-ball and the snout of the forward engine mount main beam assembly, P/N 642-2006-501, or P/N 642-2006-503.

This condition, if not detected and corrected, could lead to in-flight failure of a forward engine mount and consequent detachment of an engine, possibly resulting in reduced control of the aeroplane and injury to persons on the ground.

To address this potential unsafe condition, Airbus issued Service Bulletin (SB) A320-71-1065 and SB A320-71-1066, and Goodrich Aerospace issued SB RA32071-159, providing instructions for an in-shop inspection(s) for the main beam snout and, depending on findings, applicable corrective action(s) and re-identification.

For the reason described above, this [EASA] AD requires replacement of the affected forward engine mount main beam assemblies. As the same main beam assemblies are certified for CFM56-5A engine installation, this [EASA] AD also applies to aeroplanes with that engine.

Required actions include modifying the main beam assembly of the forward engine mount. The modification includes repairing, replacing, or reworking the main beam assembly. You may examine the MCAI in the AD docket on the Internet at http://www.regulations.gov by searching for and locating Docket No. FAA-2017-1020.

Related Service Information Under 1 CFR Part 51

Airbus has issued Service Bulletin A320-71-1065, Revision 01, dated July 28, 2017. This service information describes procedures for modifying the main beam assembly of the forward engine mount. The modification includes, among other things, repair or replacement of the main beam assembly.

Airbus has also issued Service Bulletin A320-71-1066, dated December 1, 2016. This service information describes procedures for modifying the main beam assembly of the forward engine mount. The modification includes, among other things, rework of the main beam assembly.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 500 airplanes of U.S. registry.

We estimate the following costs to comply with this proposed AD:

Estimated Costs
Action | Labor cost | Parts cost | Cost per product | Cost on U.S. operators
Modification | Up to 76 work-hours × $85 per hour = $6,460 | $778 | Up to $7,238 | Up to $3,619,000.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2017-1020; Product Identifier 2017-NM-114-AD.

(a) Comments Due Date

We must receive comments by December 8, 2017.

(b) Affected ADs

None.

(c) Applicability

This AD applies to all Airbus Model A318-111 and -112 airplanes; Model A319-111, -112, -113, -114, and -115 airplanes; Model A320-211, -212, -214, and -216 airplanes; and Model A321-111, -112, -211, -212, and -213 airplanes; certificated in any category.

(d) Subject

Air Transport Association (ATA) of America Code 71, Powerplant.

(e) Reason

This AD was prompted by a review of maintenance instructions for a blend repair of the diameter of the snout of the main beam assembly of the forward engine mount that would create an excessive gap between the bearing mono-ball and the snout. We are issuing this AD to prevent in-flight failure of a forward engine mount, and consequent detachment of an engine, which could result in reduced controllability of the airplane.

(f) Compliance

Comply with this AD within the compliance times specified, unless already done.

(g) Definition of Affected Parts

For the purposes of this AD: An “affected main beam” is any main beam assembly of the forward engine mount, part number (P/N) 642-2006-501 or P/N 642-2006-503, identified in paragraph (g)(1) or (g)(2) of this AD.

(1) Any part for which no maintenance records are available to confirm the part has never been repaired.

(2) Any part that was repaired as specified in the instructions of Goodrich Aerospace component maintenance manual (CMM) 71-21-08, Revision 1 through 46, repair 10, except for parts identified in paragraphs (g)(2)(i), (g)(2)(ii), and (g)(2)(iii) of this AD.

(i) Any part on which a qualifying inspection identified in paragraph (h) of this AD has been done and there were no findings (the inspection was passed).

(ii) Any part on which a qualifying inspection identified in paragraph (h) of this AD has been done and that part has been repaired as specified in the instructions of Goodrich Aerospace Service Bulletin RA32071-159.

(iii) Any part that has been repaired in accordance with other instructions approved by the Manager, International Section, Transport Standards Branch, FAA; or the European Aviation Safety Agency (EASA); or Airbus's EASA Design Organization Approval (DOA).

(h) Definition of Qualifying Inspection

For the purposes of this AD: “A qualifying inspection” is an inspection done as specified in the instructions of Goodrich Aerospace Service Bulletin RA32071-159; or for CFM56-5B engines, an inspection done as specified in the instructions of Goodrich Aerospace CMM 71-21-08, Revision 47, repair 10; or for CFM56-5A engines, an inspection done as specified in the instructions of Goodrich Aerospace CMM 71-21-06, Revision 59, repair 21.

(i) Definition of Airplane Groups

For the purposes of this AD: “Group 1 airplanes” are airplanes on which an affected main beam has been installed as of the effective date of this AD. “Group 2 airplanes” are airplanes on which an affected main beam has not been installed as of the effective date of this AD; this includes airplanes with an original certificate of airworthiness or original export certificate of airworthiness that was issued after the effective date of this AD.

(j) Modification of Affected Main Beam Assemblies

For Group 1 airplanes as identified in paragraph (i) of this AD: At the earliest of the compliance times specified in paragraphs (j)(1), (j)(2), and (j)(3) of this AD, modify each affected main beam identified in paragraph (g) of this AD, in accordance with the Accomplishment Instructions of Airbus Service Bulletin A320-71-1065, Revision 01, dated July 28, 2017; and Airbus Service Bulletin A320-71-1066, dated December 1, 2016; as applicable, except as required by paragraph (k) of this AD.

(1) Within 48 months after the effective date of this AD.

(2) Within 10,000 flight cycles after the effective date of this AD.

(3) Within 15,000 flight hours after the effective date of this AD.

(k) Exception to Service Information

Where Airbus Service Bulletin A320-71-1065, Revision 01, dated July 28, 2017, specifies to contact a manufacturer for appropriate action, and specifies that action as “RC” (Required for Compliance): Before further flight, accomplish corrective actions in accordance with the procedures specified in paragraph (n)(2) of this AD.

(l) Credit for Previous Actions

This paragraph provides credit for the actions required by paragraph (j) of this AD involving Airbus Service Bulletin A320-71-1065, Revision 01, dated July 28, 2017, if those actions were performed before the effective date of this AD using Airbus Service Bulletin A320-71-1065, dated December 1, 2016.

(m) Parts Installation Prohibition

As of the effective date of this AD, no person may install an affected main beam identified in paragraph (g) of this AD or a forward engine mount assembly equipped with an affected main beam identified in paragraph (g) of this AD, on any airplane.

(n) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the manager of the International Section, send it to the attention of the person identified in paragraph (o)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus's EASA DOA. If approved by the DOA, the approval must include the DOA-authorized signature.

(3) Required for Compliance (RC): Except as required by paragraph (k) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(o) Related Information

(1) Refer to Mandatory Continuing Airworthiness Information (MCAI) EASA AD 2017-0132, dated July 27, 2017, for related information. This MCAI may be found in the AD docket on the Internet at http://www.regulations.gov by searching for and locating Docket No. FAA-2017-1020.

(2) For more information about this AD, contact Sanjay Ralhan, Aerospace Engineer, International Section, Transport Standards Branch, FAA, 1601 Lind Avenue SW., Renton, WA 98057-3356; telephone 425-227-1405; fax 425-227-1149.

(3) For service information identified in this AD, contact Airbus, Airworthiness Office-EIAS, 1 Rond Point Maurice Bellonte, 31707 Blagnac Cedex, France; telephone: +33 5 61 93 36 96; fax: +33 5 61 93 44 51; email: account.airworth-eas@airbus.com; Internet: http://www.airbus.com. You may view this service information at the FAA, Transport Standards Branch, 1601 Lind Avenue SW., Renton, WA. For information on the availability of this material at the FAA, call 425-227-1221.

Issued in Renton, Washington, on October 17, 2017.
Jeffrey E. Duven,
Director, System Oversight Division, Aircraft Certification Service.

[FR Doc. 2017-23014 Filed 10-23-17; 8:45 am]

BILLING CODE 4910-13-P